DEPARTMENT OF STATE

[Public Notice 6549]

U.S. Department of State Advisory Committee on Private International Law: Working Group I of the United Nations Commission on International Trade Law (UNCITRAL) Model Law on Procurement of Goods, Construction and Services

A study group of the Advisory Committee reviews and provides comments on an initiative by the United Nations Commission for International Trade Law (UNCITRAL) to revise the 1994 UNCITRAL Model Law on Procurement of Goods, Construction and Services (“Model Procurement Law”), and its Guide to Enactment, available at http://www.uncitral.org/uncitral/en/uncitral_texts/procurement_infrastructure/1994Model.html. The UNCITRAL Model Procurement Law is not intended to be applied by the United States, but it is cited and relied upon in many other nations as a model procurement code.

The UNCITRAL Working Group tasked with making recommendations for an updated model law has focused on new practices and technological developments, in particular those resulting from the use of electronic communications in public procurement. These topics have included the use of electronic means of communication in the procurement process, publication of procurement-related information, the procurement technique known as the electronic reverse auction, abnormally low tenders, and the method of contracting known as framework agreements. The Working Group also decided that the Model Law and the Guide should take into account the question of conflicts of interest. In this regard, the United Nations Convention Against Corruption, which entered into force in December 2005, specifically calls for anti-corruption measures in procurement to address conflicts of interest. See also Report of Working Group I (Procurement A/CN.9/668) on the work of its fifteenth session (New York, 2-6 February 2009) available at http://www.uncitral.org/uncitral/en/commission/working_groups/1Procurement.html.

It is possible that a revised model procurement law will be presented for final review by UNCITRAL in 2009. The UNCITRAL Working Group has recommended that the Model Law be considered for adoption by UNCITRAL in advance of the completion of an updated Guide to Enactment. UNCITRAL has also recently scheduled a Working Group meeting from May 25th through 29th, 2009, to work on the recommendations.

In order to assist the U.S. Delegation at the Working Group session, a public meeting to review and discuss the current status of the proposed reforms will be held on April 22, 2009.

Time and Place: The public meeting will take place at The George Washington University Law School Faculty Conference Center, 5th Floor, 2000 H Street., Washington, DC on April 22, 2009 from 10 a.m. to 12 noon EDT.

Public Participation: Comments may be submitted prior to or after the meeting to the Office of Private International Law, U.S. Department of State, 2430 E Street, NW., Washington, DC 20037-2851, attn: Michael Dennis, or by facsimile to 202-776-8482, or by electronic e-mail to DennisMJ@State.gov. Persons wishing to attend the meeting should call Trisha Smeltzer at 202-776-8423 or contact by e-mail at SmeltzerTK@state.gov.

Dated: April 6, 2009.
Michael J. Dennis,
Attorney-Adviser, Office of Private International Law, Department of State.

[FR Doc. E9-8393 Filed 4-10-09; 8:45 am]

BILLING CODE 7410-08-P